COMMITTEE FOR PURCHASE FROM PEOPLE WHO ARE BLIND OR SEVERELY DISABLED

Procurement List; Additions and Deletions; Clarification

AGENCY: Committee for Purchase From People Who Are Blind or Severely Disabled.

ACTION: Notice.

SUMMARY: The Committee for Purchase From People Who Are Blind or Severely Disabled (Committee) is providing supplementary information to its Notice in the Federal Register of May 10, 2013.

FOR FURTHER INFORMATION CONTACT: Barry S. Lineback, Director, Business Operations, 1421 Jefferson Davis Highway, Jefferson Plaza II, Suite 10800, Arlington, VA, Telephone: (703) 603-2118; FAX 703-603-0655 or email CMTEFedReg@abilityone.gov.

SUPPLEMENTARY INFORMATION: The Committee's Notice in the Federal Register of Friday, May 10, 2013 (77 FR 27369), concerning additions to the Procurement List, specified NSN: 7930-00-NIB-0644—Cleaning Pad, Melamine Foam, White, 4″ x 1.5″ x 4″. This Notice is to clarify that the actual size of the Cleaning Pad, Melamine Foam, White that was added to the Procurement List is 4″ x 2.63″ x 1.38″.

Interested parties may submit comments pertaining to the Cleaning Pad, Melamine Foam, White, 4″ x 2.63″ x 1.38″ for the Committee's consideration no later than 5 p.m. on June 28, 2013. Comments received after this date will not be considered. Comments should be submitted to Barry S. Lineback at the address above.

Dated: June 10, 2013.
Barry S. Lineback,
Director, Business Operations.

[FR Doc. 2013-14170 Filed 6-13-13; 8:45 am]

BILLING CODE 6353-01-P